DEPARTMENT OF HOMELAND SECURITY

Federal Emergency Management Agency

[Docket ID FEMA-2015-0001]

Final Flood Hazard Determinations

AGENCY: Federal Emergency Management Agency, DHS.

ACTION: Final notice.

SUMMARY: Flood hazard determinations, which may include additions or modifications of Base Flood Elevations (BFEs), base flood depths, Special Flood Hazard Area (SFHA) boundaries or zone designations, or regulatory floodways on the Flood Insurance Rate Maps (FIRMs) and where applicable, in the supporting Flood Insurance Study (FIS) reports have been made final for the communities listed in the table below.

The FIRM and FIS report are the basis of the floodplain management measures that a community is required either to adopt or to show evidence of having in effect in order to qualify or remain qualified for participation in the Federal Emergency Management Agency's (FEMA's) National Flood Insurance Program (NFIP). In addition, the FIRM and FIS report are used by insurance agents and others to calculate appropriate flood insurance premium rates for buildings and the contents of those buildings.

DATES: The effective date of April 5, 2016 which has been established for the FIRM and, where applicable, the supporting FIS report showing the new or modified flood hazard information for each community.

ADDRESSES: The FIRM, and if applicable, the FIS report containing the final flood hazard information for each community is available for inspection at the respective Community Map Repository address listed in the tables below and will be available online through the FEMA Map Service Center at www.msc.fema.gov by the effective date indicated above.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: The Federal Emergency Management Agency (FEMA) makes the final determinations listed below for the new or modified flood hazard information for each community listed. Notification of these changes has been published in newspapers of local circulation and 90 days have elapsed since that publication. The Deputy Associate Administrator for Mitigation has resolved any appeals resulting from this notification.

This final notice is issued in accordance with section 110 of the Flood Disaster Protection Act of 1973, 42 U.S.C. 4104, and 44 CFR part 67. FEMA has developed criteria for floodplain management in floodprone areas in accordance with 44 CFR part 60.

Interested lessees and owners of real property are encouraged to review the new or revised FIRM and FIS report available at the address cited below for each community or online through the FEMA Map Service Center at www.msc.fema.gov.

The flood hazard determinations are made final in the watersheds and/or communities listed in the table below.

(Catalog of Federal Domestic Assistance No. 97.022, “Flood Insurance.”)

Dated: November 23, 2015.
Roy E. Wright,
Deputy Associate Administrator for Insurance and Mitigation, Department of Homeland Security, Federal Emergency Management Agency.

I. Watershed-based studies:

Lower Susquehanna Watershed
Community | Community map repository address
Lancaster County, Pennsylvania (All Jurisdictions)
Docket No.: FEMA-B-1419
Borough of Adamstown | Borough Office, 3000 North Reading Road, Adamstown, PA 19501.
Borough of Akron | Borough Hall, 117 South 7th Street, Akron, PA 17501.
Borough of Christiana | Borough Hall, 10 West Slokom Avenue, Christiana, PA 17509.
Borough of Columbia | Borough Hall, 308 Locust Street, Columbia, PA 17512.
Borough of Denver | Borough Office, 501 Main Street, Denver, PA 17517.
Borough of East Petersburg | Borough Hall, 6040 Main Street, East Petersburg, PA 17520.
Borough of Elizabethtown | Borough Office, 600 South Hanover Street, Elizabethtown, PA 17022.
Borough of Ephrata | Borough Hall, 124 South State Street, Ephrata, PA 17522.
Borough of Lititz | Borough Office, 7 South Broad Street, Lititz, PA 17543.
Borough of Manheim | Borough Office, 15 East High Street, Manheim, PA 17545.
Borough of Marietta | Borough Hall, 111 East Market Street, Marietta, PA 17547.
Borough of Millersville | Borough Office, 100 Municipal Drive, Millersville, PA 17551.
Borough of Mount Joy | Borough Office, 21 East Main Street, Mount Joy, PA 17552.
Borough of Mountville | Borough Office, 21 East Main Street, Mountville, PA 17554.
Borough of Quarryville | Borough Office, 300 Saint Catherine Street, Quarryville, PA 17566.
Borough of Strasburg | Borough Office, 145 Precision Avenue, Strasburg, PA 17579.
City of Lancaster | Lancaster City Municipal Building, 120 North Duke Street, Lancaster, PA 17602.
Township of Bart | Bart Township Office, 46 Quarry Road, Quarryville, PA 17566.
Township of Brecknock | Brecknock Township Office, 1026 Dry Tavern Road, Denver, PA 17517.
Township of Caernarvon | Caernarvon Township Office, 2147 Main Street, Narvon, PA 17555.
Township of Clay | Clay Township Office, 870 Durlach Road, Stevens, PA 17578.
Township of Colerain | Colerain Township Office, 1803 Kirkwood Pike, Kirkwood, PA 17536.
Township of Conestoga | Township Municipal Building, 3959 Main Street, Conestoga, PA 17516.
Township of Conoy | Conoy Township Office, 211 Falmouth Road, Bainbridge, PA 17502.
Township of Drumore | Township Office, 1675 Furniss Road, Drumore, PA 17518.
Township of Earl | Earl Township Office, 517 North Railroad Avenue, New Holland, PA 17557.
Township of East Cocalico | East Cocalico Township Office, 100 Hill Road, Denver, PA 17517.
Township of East Donegal | East Donegal Township Municipal Building, 190 Rock Point Road, Marietta, PA 17547.
Township of East Drumore | East Drumore Township Municipal Building, 925 Robert Fulton Highway, Quarryville, PA 17566.
Township of East Earl | Township Municipal Building, 4610 Division Highway, East Earl, PA 17519.
Township of East Hempfield | East Hempfield Township Office, 1700 Nissley Road, Landisville, PA 17538.
Township of East Lampeter | East Lampeter Township Office, 2250 Old Philadelphia Pike, Lancaster, PA 17602.
Township of Eden | Eden Township Office, 489 Stony Hill Road, Quarryville, PA 17566.
Township of Elizabeth | Elizabeth Township Municipal Building, 423 South View Drive, Lititz, PA 17543.
Township of Ephrata | Township Office, 265 Akron Road, Ephrata, PA 17522.
Township of Fulton | Fulton Township Municipal Building, 777 Nottingham Road, Peach Bottom, PA 17563.
Township of Lancaster | Township Municipal Building, 1240 Maple Avenue, Lancaster, PA 17603.
Township of Leacock | Leacock Township Office, 3545 West Newport Road, Intercourse, PA 17534.
Township of Little Britain | Little Britain Township Municipal Building, 323 Green Lane, Quarryville, PA 17566.
Township of Manheim | Manheim Township Office, 1840 Municipal Drive, Lancaster, PA 17601.
Township of Manor | Manor Township Office, 950 West Fairway Drive, Lancaster, PA 17603.
Township of Martic | Martic Township Municipal Building, 370 Steinman Farm Road, Pequea, PA 17565.
Township of Mount Joy | Mount Joy Township Municipal Building, 159 Merts Drive, Elizabethtown, PA 17022.
Township of Paradise | Township Office, 2 Township Drive, Paradise, PA 17562.
Township of Penn | Penn Township Office, 97 North Penryn Road, Manheim, PA 17545.
Township of Pequea | Pequea Township Office, 1028 Millwood Road, Willow Street, PA 17584.
Township of Providence | Providence Township Office, 200 Mount Airy Road, New Providence, PA 17560.
Township of Rapho | Rapho Township Office, 971 North Colebrook Road, Manheim, PA 17545.
Township of Sadsbury | Sadsbury Township Office, 7182 White Oak Road, Christiana, PA 17509.
Township of Salisbury | Salisbury Township Office, 5581 Old Philadelphia Pike, Gap, PA 17527.
Township of Strasburg | Township Municipal Building, 400 Bunker Hill Road, Strasburg, PA 17579.
Township of Upper Leacock | Upper Leacock Township Office, 36 Hillcrest Avenue, Leola, PA 17540.
Township of Warwick | Warwick Township Office, 315 Clay Road, Lititz, PA 17543.
Township of West Cocalico | West Cocalico Township Office, 156B West Main Street, Reinholds, PA 17569.
Township of West Donegal | West Donegal Township Office, 1 Municipal Drive, Elizabethtown, PA 17022.
Township of West Earl | West Earl Township Office, 157 West Metzler Road, Brownstown, PA 17508.
Township of West Hempfield | West Hempfield Township Municipal Building, 3401 Marietta Avenue, Lancaster, PA 17601.
Township of West Lampeter | West Lampeter Township Office, 852 Village Road, Lampeter, PA 17537.

II. Non-watershed-based studies:

Community | Community map repository address
San Diego County, California, and Incorporated Areas
Docket No.: FEMA-B-1461
City of Imperial Beach | City Hall, 825 Imperial Beach Boulevard, Imperial Beach, CA 91932.
City of San Diego | Development Services Department, 1222 First Avenue, MS301, San Diego, CA 92101.
Unincorporated Areas of San Diego County | Department of Public Works, Flood Control, 5510 Overland Avenue, Suite 410, San Diego, CA 92123.
Geary County, Kansas, and Incorporated Areas
Docket No.: FEMA-B-1463
City of Grandview Plaza | City Hall, 402 State Avenue, Grandview Plaza, KS 66441.
City of Junction City | Municipal Building, 700 North Jefferson Street, Junction City, KS 66441.
City of Milford | City Hall, 201 12th Street, Milford, KS 66514.
Unincorporated Areas of Geary County | Geary County Municipal Building, 700 North Jefferson Street, Junction City, KS 66441.
Bullitt County, Kentucky, and Incorporated Areas
Docket No.: FEMA-B-1427
City of Fox Chase | 149 North Walnut Street, 3rd Floor, Shepherdsville, KY 40165.
City of Hebron Estates | 3407 Burkland Boulevard, Shepherdsville, KY 40165.
City of Hillview | 283 Crestwood Lane, Louisville, KY 40229.
City of Lebanon Junction | 271 Main Street, Lebanon Junction, KY 40150.
City of Mount Washington | 275 Snapp Street, Mount Washington, KY 40047.
City of Shepherdsville | 634 Conestoga Parkway, Shepherdsville, KY 40165.
Unincorporated Areas of Bullitt County | 149 North Walnut Street, 3rd Floor, Shepherdsville, KY 40165.
Bowman County, North Dakota, and Incorporated Areas
Docket No.: FEMA-B-1462
City of Bowman | City Hall, 101 First Street Northeast, Bowman, ND 58623.
City of Gascoyne | City Hall, 100 West Nordell Avenue, Gascoyne, ND 58653.
City of Scranton | City Hall, 109 Second Avenue Southwest, Scranton, ND 58653.
Unincorporated Areas of Bowman County | County Courthouse, 104 First Street Northwest, Bowman, ND 58623.
Colfax County, Nebraska, and Incorporated Areas
Docket No.: FEMA-B-1463
City of Clarkson | City Office, 120 West 2nd Street, Clarkson, NE 68629.
City of Schuyler | Municipal Building, 1103 B Street, Schuyler, NE 68661.
Village of Howells | Village Hall, 128 North 3rd Street, Howells, NE 68641.
Village of Leigh | Village Office, 109 Short Street, Leigh, NE 68643.
Village of Richland | Colfax County Courthouse, 411 East 11th Street, Schuyler, NE 68661.
Village of Rogers | Village Clerk's Office, 160 Center Street, Rogers, NE 68659.
Unincorporated Areas of Colfax County | Colfax County Courthouse, 411 East 11th Street, Schuyler, NE 68661.

[FR Doc. 2015-31377 Filed 12-11-15; 8:45 am]

BILLING CODE 9110-12-P